DEPARTMENT OF AGRICULTURE

Forest Service

Notice of Resource Advisory Committee, Sundance, WY

AGENCY: Notice of Resource Advisory Committee, Sundance, Wyoming, USDA Forest Service.

ACTION: Notice of meeting.

SUMMARY: Pursuant to the authorities in the Federal Advisory Committee Act (Pub. L. 92-463) and under the Secure Rural Schools and Community Self-Determination Act of 2000 (Pub. L. 106-393) the Black Hills National Forests' Crook County Resource Advisory Committee will meet Monday, March 20th, 2006 in Sundance, Wyoming for a business meeting. The meeting is open to the public.

SUPPLEMENTARY INFORMATION: The business meeting on March 20th will begin at 6:30 p.m., at the USFS Bearlodge Ranger District office, 121 South 21st Street, Sundance, Wyoming. Agenda topics will include presentation of appointments to the Crook County Resource Advisory Committee, election of officers, review of previously funded projects and examination of new project proposals. A public forum will begin at 8:30 p.m. (mt).

FOR FURTHER INFORMATION CONTACT: Steve Kozel, Bearlodge District Ranger and Designated Federal Officer at (307) 283-1361.

Dated: March 3, 2006.
Steven J. Kozel,
Bearlodge Ranger District.

[FR Doc. 06-2305 Filed 3-9-06; 8:45 am]

BILLING CODE 3410-11-N